DEPARTMENT OF HOMELAND SECURITY

[Docket No. DHS-2013-0023]

Statewide Communication Interoperability Plan Template and Annual Progress Report

AGENCY: National Protection and Programs Directorate, DHS.

ACTION: 30-day notice and request for comments; Reinstatement, with change, of a previously approved collection: 1670-0017.

SUMMARY: The Department of Homeland Security (DHS), National Protection and Programs Directorate (NPPD), Office of Cybersecurity and Communications (CS&C), Office of Emergency Communications (OEC), will submit the following Information Collection Request (ICR) to the Office of Management and Budget (OMB) for review and clearance in accordance with the Paperwork Reduction Act of 1995 (Pub. L. 104-13, 44 U.S.C. Chapter 35). NPPD is soliciting comments concerning New Information Collection Request, SCIP Template and Annual Progress Report. DHS previously published this ICR in the Federal Register on August 16, 2013, for a 60-day public comment period. DHS received 1 comment. When the 60-Day FRN was published the action stated indicated that it was a New Information Collection Request. NPPD would like to correct this ICR to state that this is a Reinstatement, with change, of a previously approved collection. The purpose of this notice is to allow an additional 30 days for public comments.

DATES: Comments are encouraged and will be accepted until May 15, 2014. This process is conducted in accordance with 5 CFR 1320.10.

ADDRESSES: Interested persons are invited to submit written comments on the proposed information collection to the Office of Information and Regulatory Affairs, OMB. Comments should be addressed to OMB Desk Officer, Department of Homeland Security, Office of Civil Rights and Civil Liberties. Comments must be identified by DHS-2013-0023 and may be submitted by one of the following methods:

• Federal eRulemaking Portal: http://www.regulations.gov.

• Email: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Serena Maxey, DHS/NPPD/CS&C/OEC, serena.maxey@hq.dhs.gov.

SUPPLEMENTARY INFORMATION: The Department of Homeland Security, Office of Emergency Communications (OEC), formed under Title XVIII of the Homeland Security Act of 2002, 6 U.S.C. 101 et seq., is required to develop the National Emergency Communications Plan (NECP), which includes identification of goals, timeframes, and appropriate measures to achieve interoperable communications capabilities. In 2010, the Statewide Communication Interoperability Plan (SCIP) Implementation Report was cleared in accordance with the Paperwork Reduction Act of 1995. The SCIP Template and Annual Progress Report will replace the previous SCIP Template and SCIP Implementation Report. These updated documents (SCIP Template and Annual Progress Report) streamline the information collected by OEC to track the progress states are making in implementing milestones and demonstrating goals of the NECP. There is no change to the information being collected. The only proposed change to the collection is that an online option is being added. States will have the option of submitting both documents via email at oec@hq.dhs.gov or through an online tool.

The SCIP Template and Annual Progress Report will assist states in their strategic planning for interoperable and emergency communications while demonstrating each state's achievements and challenges in accomplishing optimal interoperability for emergency responders. In addition, certain government grants may require states to update their SCIP Templates and Annual Progress Reports to include broadband efforts in order to receive funding for interoperable and emergency communications.

Statewide Interoperability Coordinators (SWICs) will be responsible for the development and incorporation of input from their respective stakeholders and governance bodies into their SCIP Template and Annual Progress Report. SWICs will complete and submit the reports directly to OEC through unclassified electronic submission.

Public Comment DHS-2013-0023—Summary: The comment is in Latin and when translated to English it references items about life events. (See attached Public Comment for full details).

Public Comment DHS-2013-0023—Action by Agency: No action will be taken by NPPD to update the Statewide Communication Interoperability Plan Template and Annual Progress Report. There is no specific reference to the Statewide Communication Interoperability Plan Template and Annual Report in the comment received.

Analysis

Agency: Department of Homeland Security, National Protection and Programs Directorate, Office of Cybersecurity and Communications, Office of Emergency Communications.

Title: Statewide Communication Interoperability Plan Template and Annual Progress Report.

OMB Number: 1670-0017.

Frequency: Annually.

Affected Public: Statewide Interoperability Coordinators.

Number of Respondents: 56 respondents.

Estimated Time per Respondent: 10 hours.

Total Burden Hours: 560 annual burden hours.

Total Burden Cost (capital/startup): $0.

Total Recordkeeping Burden: $0.

Total Burden Cost (operating/maintaining): $28,918.40.

Dated: April 7, 2014.
Scott Libby,
Deputy Chief Information Officer, National Protection and Programs Directorate, Department of Homeland Security.

[FR Doc. 2014-08367 Filed 4-14-14; 8:45 am]

BILLING CODE 4410-9P-P